DEPARTMENT OF JUSTICE

Notice of Lodging of Consent Decrees Under the Comprehensive Environmental Response, Compensation and Liability Act

Pursuant to section 122(d) of the Comprehensive Environmental Response, Compensation and Liability Act, as amended (“CERCLA”), 42 U.S.C. 9622(d), and 28 CFR 50.7, notice is hereby given that on April 25, 2002, two proposed consent decrees in United States v. General Motors Corp., et al., Civil Action No. 02 C 2345, were lodged with the United States District Court for the Northern District of Illinois. This action is not consolidated with United States v. Nalco Chemical Co., et al., Civil Action No. 91 C 4482 (N.D. Illinois).

In this action the United States asserted claims pursuant to Sections 106 and 107 of CERCLA, 42 U.S.C. 9606 and 9607, seeking injunctive relief to require a group of 12 defendants to implement two operable unit remedial actions selected by the United States Environmental Protection Agency (“EPA”) for the Byron Superfund Site in Ogle County, Illinois (“Site”), and seeking reimbursement of response costs incurred and to be incurred by the United States in connection with the Site. The two proposed consent decrees would resolve all claims asserted against defendants in this action, subject to specified reservations of rights. One of the proposed consent decrees referred to as the “Permanent Water Supply System Consent Decree,” provides for construction of a permanent water supply system to serve the Rock River Terrace subdivision near the Site. The other consent decree, referred to as “Soil Consent Decree”, provides for defendants to implement specified remedial measures, including installation of a cover over contaminated soils, and groundwater monitoring activities, in accordance with EPA's selected remedy and a scope of work incorporated into the Soil Consent Decree. Under the Soil Consent Decree, defendants will also pay $282,000 to the Hazardous Substance Superfund as reimbursement for past response costs incurred by the United States in connection with the Site, and defendants will pay specified future response costs incurred by the United States, including costs incurred in connection with the oversight and implementation of work required under either the Soil Consent Decree or the Permanent Water Supply Consent Decree.

The Department of Justice will receive for a period of thirty (30) days from the date of this publication comments relating either to the Permanent Water Supply System Consent Decree or the Soil Consent Decree, or both. Comments should be addressed to the Assistant Attorney General, Environment and Natural Resources Division, P.O. Box 7611, U.S. Department of Justice, Washington, DC 20044-7611, and should refer to United States v. General Motors Corp., et al., Civil Action No. 91 C 4482, D.J. Ref 90-11-2-687/1. Commenters on the Soil Consent Decree may request an opportunity for a public meeting in the affected area, in accordance with Section 7003(d) of RCRA, 42 U.S.C. 6973(d).

The Permanent Water Supply System Consent Decree and Soil Consent Decree may be examined at the Office of the United States Attorney, 219 South Dearborn Street, Chicago, Illinois 60604, and at U.S. EPA Region 5, 77 West Jackson Boulevard, Chicago, Illinois 60604. A copy of each of the Consent Decrees may also be obtained by mail from the Consent Decree Library, P.O. Box 7611, U.S. Department of Justice, Washington, DC 20044-7611 or by faxing a request to Tonia Fleetwood, fax no. (202) 514-0097, phone confirmation number (202) 514-1547. In requesting a copy, please indicate whether you wish to receive the Permanent Water Supply System Consent Decree, the Soil Consent Decree, or both, and specify whether you wish to receive copies of attachments to the requested Consent Decree(s). Please enclose a check, payable to the U.S. Treasury, in the amount specified below (25 cents per page reproduction cost): $70.75 for the Soil Consent Decree, with attachments; $14.00 for the Soil Consent Decree, without attachments; $53.50 for the Permanent Water Supply System Consent Decree, with attachments; $13.00 for the Permanent Water Supply System Consent Decree, without attachments; $124.25 for both Consent Decrees, with attachments; $27.00 for both Consent Decrees without attachments.

William D. Brighton,
Assistant, Chief, Environmental, Enforcement Section, Environment and Natural Resources Division.

[FR Doc. 02-10820 Filed 5-1-02; 8:45 am]

BILLING CODE 4410-15-M